DEPARTMENT OF TRANSPORTATION

Federal Aviation Administration

14 CFR Part 21

[Docket No. FAA-2022-1378]

Airworthiness Criteria: Primary Category Airworthiness Design Criteria for the ICON Aircraft Inc., Model A5-B Airplane; Correction

AGENCY: Federal Aviation Administration (FAA), DOT.

ACTION: Issuance of final airworthiness criteria; correction.

SUMMARY: The FAA published a document in the Federal Register on November 28, 2023, announcing the primary category airworthiness design criteria for type certification of the ICON Aircraft Inc., (ICON) Model A5-B airplane. The document contained incorrect references to the aircraft and engine model numbers.

DATES: This correction is effective on December 19, 2023.

FOR FURTHER INFORMATION CONTACT: Mr. Raymond N. Johnston, Avionics Navigation & Flight Deck Unit (AIR-626B), Avionics & Electrical Systems Section, Technical Policy Branch, Policy & Standards Division, Aircraft Certification Service, Federal Aviation Administration, 901 Locust Street, Room 301, Kansas City, MO 64106; phone (816) 329-4159, fax (816) 329-4090, email raymond.johnston@faa.gov.

SUPPLEMENTARY INFORMATION:

Background

On November 20, 2023, the FAA issued final airworthiness criteria for the ICON Model A5-B airplane, which published in the Federal Register on November 28, 2023 (88 FR 83019). As published, the document incorrectly referred to the wrong aircraft and engine model numbers. Additionally, the FAA has certified the engine, as indicated by type certificate data sheet (TCDS) E00051EN, and therefore the additional airworthiness criteria listed in Table 8: FAA Validation of EASA State of Design Reciprocating Aircraft Engines is no longer required. The criteria as published would have applied to an engine certified by the European Aviation Safety Agency (EASA) that did not have a corresponding FAA type certificate.

Correction

In the Federal Register of Tuesday, November 28, 2023, appearing at 88 FR 83019, make the following corrections:

1. On page 83019—

a. In the first column in the document's subject heading, correct aircraft model number to read “A5-B”;

b. In the first column, in the SUMMARY section, correct aircraft model number to read “A5-B”;

c. In the first and second columns, under the heading “Background,” in the second paragraph, correct the engine model number “Rotax 912 iS Sport” to read “Rotax 912 iSc2 Sport” and correct the last sentence of the second paragraph to read “The FAA does not plan to issue a TC for the propeller”;

d. In the third column, under the heading “Airworthiness Criteria,” correct the second paragraph to read “The airworthiness criteria for the issuance of a TC for the ICON Aircraft, Inc., Model A5-B airplane, a primary category airplane, and its powerplant installation is listed in Tables 1 through 7 below”;

2. On page 83020, in “Table 1: Airplane Certification Basis,” in the subject entry for “Engine”—

a. In the “Consensus standard or regulation” column, correct “14 CFR part 33, Amendment 33-34” to read “14 CFR part 33”;

b. In the “Title and description” column, correct the description to read “Utilize the certification basis as indicated for the engine TCDS E00051EN”; and

3. On page 83022, in the first column—

a. Remove the first paragraph;

c. Remove “Table 8: FAA Validation of EASA State of Design Reciprocating Aircraft Engines”; and

b. Remove footnote 2 “CS-E, Amendment 6—Aircraft cybersecurity”.

Issued in Washington, District of Columbia, on December 14, 2023.
Min Zhang,
Acting Manager, Certification Coordination Section, Policy and Standards Division, Aircraft Certification Service.

[FR Doc. 2023-27835 Filed 12-18-23; 8:45 am]

BILLING CODE 4910-13-P